DEPARTMENT OF COMMERCE

National Oceanic and Atmospheric Administration

Fisheries of the Caribbean; Southeast Data, Assessment, and Review (SEDAR); Public Meetings

AGENCY: National Marine Fisheries Service (NMFS), National Oceanic and Atmospheric Administration (NOAA), Commerce.

ACTION: Notice of SEDAR Data Scoping, Assessment, and Review Workshops for Caribbean blue tang and queen triggerfish.

SUMMARY: The SEDAR assessments of the Caribbean stocks of blue tang and queen triggerfish will consist of a series of workshops: three Data scoping Workshops, an Assessment Workshop, and a Review Workshop. See SUPPLEMENTARY INFORMATION.

DATES: The Data Scoping Workshops will take place July 17-19, 2012; the Assessment Workshop will take place October 16-18, 2012; and the Review Workshop will take place February 4-7, 2013. See SUPPLEMENTARY INFORMATION.

ADDRESSES: A series of Data Scoping Workshops will be held throughout the U.S. Caribbean. The location information for each workshop is included in the table below:

| Data Scoping—STX | Data Scoping—STT | Data Scoping—PR
Start | 7/17/12 @ 3pm | 7/18/12 @ 3pm | 7/19/12 @ 3pm.
End | 7/17/12 @ 7pm | 7/18/12 @ 7pm | 7/19/12 @ 7pm.
Location | The Buccaneer | Frenchman's Reef | Rincon Beach Hotel.
Address | 5007 Estate Shoys St. Croix, USVI | 5 Estate Bakkeroe, St. Thomas, USVI | Rd 115, Km 5.8, Anasco, PR.
Phone | 800-255-3881 | 800-228-9290 | 866-589-0009.

The Assessment Workshop will be held at the Courtyard Miami Coconut Grove, 2649 South Bayshore Drive, Miami, FL 33133; telephone: (800) 321-2211. The Review Workshop will be held at the Hotel El Convento, 100 Cristo Street, Old San Juan, PR 00901; telephone: (181) 723-9036.

FOR FURTHER INFORMATION CONTACT: Julie A. Neer, SEDAR Coordinator, 4055 Faber Place Drive, Suite 201, North Charleston, SC 29405; telephone: (843) 571-4366.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; International experts; and staff of Councils, Commissions, and state and federal agencies.

SEDAR 30 Workshop Schedule:

July 17-19, 2012; SEDAR 30 Data Scoping Workshops

July 17-19, 2012: 3 p.m.-7 p.m.

An assessment data set and associated documentation will be developed during the Data Scoping Workshops. Participants will evaluate available data and select appropriate sources for providing information on life history characteristics, catch statistics, discard estimates, length and age composition, and fishery dependent and fishery independent measures of stock abundance.

October 16-18, 2012, 2011; SEDAR 30 Assessment Workshop

October 16-18, 2012: 9 a.m.-8 p.m.

Using datasets provided by the Data Scoping Workshops, participants will develop population models to evaluate stock status, estimate population benchmarks and stock status criteria, and project future conditions. Participants will recommend the most appropriate methods and configurations for determining stock status and estimating population parameters. Participants will prepare a workshop report, compare and contrast various assessment approaches, and determine whether the assessments are adequate for submission to the review panel.

February 4-7, 2013; SEDAR 30 Review Workshop

February 4, 2013: 1 p.m.-8 p.m.; February 5-7, 2013: 8 a.m.-8 p.m.

The Review Workshop is an independent peer review of the assessment developed during the Data and Assessment Workshops. Workshop Panelists will review the assessment and document their comments and recommendations in a Consensus Summary.

The established times may be adjusted as necessary to accommodate the timely completion of discussion relevant to the assessment process. Such adjustments may result in the meeting being extended from, or completed prior to the time established by this notice.

Special Accommodations

These meetings are physically accessible to people with disabilities. Requests for sign language interpretation or other auxiliary aids should be directed to the Council office (see ADDRESSES) at least 10 business days prior to each workshop.

Dated: May 2, 2012.
Tracey L. Thompson,
Acting Director, Office of Sustainable Fisheries, National Marine Fisheries Service.

[FR Doc. 2012-10900 Filed 5-4-12; 8:45 am]

BILLING CODE 3510-22-P